DEPARTMENT OF HOMELAND SECURITY

Federal Emergency Management Agency

44 CFR Part 65

Changes in Flood Elevation Determinations

AGENCY: Federal Emergency Management Agency (FEMA), Department of Homeland Security.

ACTION: Final rule.

SUMMARY: Modified Base (1% annual-chance) Flood Elevations (BFEs) are finalized for the communities listed below. These modified BFEs will be used to calculate flood insurance premium rates for new buildings and their contents.

DATES: Effective Dates: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Mitigation Division, FEMA, 500 C Street, SW., Washington, DC 20472, (202) 646-2903.

SUPPLEMENTARY INFORMATION: FEMA makes the final determinations listed below of the modified BFEs for each community listed. These modified BFEs have been published in newspapers of local circulation and ninety (90) days have elapsed since that publication.

The Mitigation Division Director of the Federal Emergency Management Agency resolved any appeals resulting from this notification.

The modified BFEs are not listed for each community in this notice. However, this rule includes the address of the Chief Executive Officer of the community where the modified BFEs determinations are available for inspection.

The modified BFEs are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Mitigation Division Director of the Federal Emergency Management Agency certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 65

Flood insurance, Floodplains, Reporting and recordkeeping requirements.

Accordingly, 44 CFR Part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community number
Alabama: Coffee; (FEMA Docket No.: B-7452) | Unincorporated Areas (04-04-A853P) | February 23, 2005; March 3, 2005; The Enterprise Ledger | The Honorable Doug Dalrymple, Chairman, Coffee County, County Courthouse, Two County Complex, New Brockton, Alabama 36351 | February 10, 2005 | 010239
Alaska: Anchorage Borough; (FEMA Docket No.: B-7452) | Municipality of Anchorage (04-10-0831P) | April 27, 2005; May 4, 2005; Anchorage Daily News | The Honorable Mark Begich, Mayor, Municipality of Anchorage, P.O. Box 196650, Anchorage, Alaska 99519-6650 | August 3, 2005 | 020005
Arizona:
Gila; (FEMA Docket No.: B-7448) | City of Globe (04-09-0928P) | June 16, 2004; June 23, 2004; Arizona Silver Belt | The Honorable Stanley Gibson, Mayor, City of Globe, 150 North Pine Street, Globe, Arizona 85501 | September 22, 2004 | 040029
Maricopa; (FEMA Docket No.: B-7448) | City of Avondale (04-09-0311P) | June 17, 2004; June 24, 2004; Arizona Republic | The Honorable Ronald J. Drake, Mayor, City of Avondale, 525 North Central Avenue, Avondale, Arizona 85323 | September 23, 2004 | 040038
Maricopa; (FEMA Docket No.: B-7451) | City of Avondale (04-09-0552P) | January 6, 2005; January 13, 2005; Arizona Republic | The Honorable Ronald J. Drake, Mayor, City of Avondale, 525 North Central Avenue, Avondale, Arizona 85323 | December 21, 2004 | 040038
Maricopa; (FEMA Docket No.: B-7448) | Town of Buckeye (04-09-0585P) | June 17, 2004; June 24, 2004; Buckeye Valley Newspaper | The Honorable Dusty Hull, Mayor, Town of Buckeye, 100 North Apache Road, Suite A, Buckeye, Arizona 85326 | May 27, 2004 | 040039
Maricopa; (FEMA Docket No.: B-7448) | Town of Buckeye (04-09-0544P) | June 17, 2004; June 24, 2004; Buckeye Valley Newspaper | The Honorable Dusty Hull, Mayor, Town of Buckeye, 100 North Apache Road, Suite A, Buckeye, Arizona 85326 | May 27, 2004 | 040039
Maricopa; (FEMA Docket No.: B-7451) | Town of Carefree (04-09-1301P) | December 23, 2004; December 30, 2004; Arizona Business Gazette | The Honorable Edward C. Morgan, Mayor, Town of Carefree, P.O. Box 740, Carefree, Arizona 85377 | November 24, 2004 | 040126
Maricopa; (FEMA Docket No.: B-7450) | City of Glendale (03-09-1653P) | September 23, 2004; September 30, 2004; Arizona Business Gazette | The Honorable Elaine M. Scruggs, Mayor, City of Glendale, 5850 West Glendale Avenue, Glendale, Arizona 85301 | December 30, 2004 | 040045
Maricopa; (FEMA Docket No.: B-7450) | City of Glendale (04-09-0318P) | September 23, 2004; September 30, 2004; Arizona Business Gazette | The Honorable Elaine M. Scruggs, Mayor, City of Glendale, 5850 West Glendale Avenue, Glendale, Arizona 85301 | December 30, 2004 | 040045
Maricopa; (FEMA Docket No.: B-7450) | City of Goodyear (03-09-1653P) | September 23, 2004; September 30, 2004; Arizona Business Gazette | The Honorable James M. Cavanaugh, Mayor, City of Goodyear, 190 North Litchfield Road, Goodyear, Arizona, 85338 | December 30, 2004 | 040046
Maricopa; (FEMA Docket No.: B-7450) | City of Goodyear (03-09-1653P) | December 2, 2004; December 29, 2004; Arizona Business Gazette | The Honorable James M. Cavanaugh, Mayor, City of Goodyear, 190 North Litchfield Road, Goodyear, Arizona, 85338 | December 30, 2004 | 040046
Maricopa; (FEMA Docket No.: B-7451) | City of Goodyear (04-09-0318P) | September 23, 2004; September 30, 2004; Arizona Business Gazette | The Honorable James M. Cavanaugh, Mayor, City of Goodyear, 190 North Litchfield Road, Goodyear, Arizona, 85338 | March 10, 2005 | 040046
Maricopa; (FEMA Docket No.: B-7450) | City of Litchfield Park (03-09-1653P) | September 23, 2004; September 30, 2004; Arizona Business Gazette | The Honorable J. Woodfin “Woody” Thomas, Mayor, City of Litchfield Park, 214 West Wigwam Boulevard, Litchfield, Arizona, 85340 | December 30, 2004 | 040128
Maricopa; (FEMA Docket No.: B-7450) | City of Peoria (04-09-0960P) | August 12, 2004; August 19, 2004; Arizona Business Gazette | The Honorable John Keegan, Mayor, City of Peoria, Municipal Complex, 89401 West Monroe Street, Peoria, Arizona, 85345 | November 18, 2004 | 040050
Maricopa; (FEMA Docket No.: B-7448) | City of Phoenix (02-09-290P) | June 3, 2004; June 10, 2004; Arizona Business Gazette | The Honorable Phil Gordon, Mayor, City of Phoenix, 200 West Washington Street, 11th Floor, Phoenix, Arizona, 85003-1611 | September 9, 2004 | 040051
Maricopa; (FEMA Docket No.: B-7448) | City of Phoenix (02-09-1019P) | June 17, 2004; June 24, 2004; Arizona Business Gazette | The Honorable Phil Gordon, Mayor, City of Phoenix, 200 West Washington Street, 11th Floor, Phoenix, Arizona, 85003-1611 | September 23, 2004 | 040051
Maricopa; (FEMA Docket No.: B-7450) | City of Phoenix (04-09-0716P) | July 1, 2004; July 8, 2004; Arizona Business Gazette | The Honorable Phil Gordon, Mayor, City of Phoenix, 200 West Washington Street, 11th Floor, Phoenix, Arizona, 85003-1611 | June 22, 2004 | 040051
Maricopa; (FEMA Docket No.: B-7451) | City of Phoenix (03-09-0448P) | December 2, 2004; December 9, 2004; Arizona Business Gazette | The Honorable Phil Gordon, Mayor, City of Phoenix, 200 West Washington Street, 11th Floor, Phoenix, Arizona, 85003-1611 | March 10, 2005 | 040051
Maricopa; (FEMA Docket No.: B-7451) | City of Goodyear (04-09-0381P) | December 23, 2004; December 30, 2004; Arizona Business Gazette | The Honorable Phil Gordon, Mayor, City of Phoenix, 200 West Washington Street, 11th Floor, Phoenix, Arizona, 85003-1611 | March 30, 2005 | 040051
Maricopa; (FEMA Docket No.: B-7452) | City of Phoenix (03-09-0661P) | April 21, 2004; April 28, 2004; Arizona Business Gazette | The Honorable Phil Gordon, Mayor, City of Phoenix, 200 West Washington Street, 11th Floor, Phoenix, Arizona, 85003-1611 | July 28, 2005 | 040051
Maricopa; (FEMA Docket No.: B-7451) | City of Scottsdale (04-09-1301P) | December 23, 2004; December 30, 2004; Arizona Business Gazette | The Honorable Mary Manross, Mayor, City of Scottsdale, 3939 North Drinkwater Boulevard, Scottsdale, Arizona, 85251 | November 24, 2004 | 045012
Maricopa; (FEMA Docket No.: B-7452) | City of Scottsdale (05-09-0403X) | February 24 2005; March 3, 2005; Arizona Business Gazette | The Honorable Mary Manross, Mayor, City of Scottsdale, 3939 North Drinkwater Boulevard, Scottsdale, Arizona, 85251 | February 4, 2005 | 045012
Maricopa; (FEMA Docket No.: B-7448) | Unincorporated Areas (04-09-0311P) | June 17, 2004; June 24, 2004; Arizona Republic | The Honorable Andrew W. Kunasek, Chairman, Maricopa County, Board of Supervisors, 301 West Jefferson Street, 10th Floor, Phoenix, Arizona 85003 | September 23, 2004 | 040037
Maricopa; (FEMA Docket No.: B-7450) | Unincorporated Areas (03-09-1653P) | September 23, 2005; September 30, 2004; Arizona Business Gazette | The Honorable Andrew W. Kunasek, Chairman, Maricopa County, Board of Supervisors, 301 West Jefferson Street, 10th Floor, Phoenix, Arizona 85003 | December 30, 2004 | 040037
Maricopa; (FEMA Docket No.: B-7450) | Unincorporated Areas (04-09-0318P) | September 23, 2004; September 30, 2004; Arizona Business Gazette | The Honorable Andrew W. Kunasek, Chairman, Maricopa County, Board of Supervisors, 301 West Jefferson Street, 10th Floor, Phoenix, Arizona 85003 | December 30, 2004 | 040037
Maricopa; (FEMA Docket No.: B-7451) | Unincorporated Areas (03-09-1190P) | October 21, 2004; October 28, 2004; Arizona Business Gazette | The Honorable Andrew W. Kunasek, Chairman, Maricopa County Board of Supervisors, 301 West Jefferson Street, 10th Floor, Phoenix, Arizona 85003 | October 12, 2005 | 040037
Maricopa; (FEMA Docket No.: B-7451) | Unincorporated Areas (04-09-0552P) | January 6, 2005; January 13, 2005; Arizona Republic | The Honorable Andrew W. Kunasek, Chairman, Maricopa County Board of Supervisors, 301 West Jefferson Street, 10th Floor, Phoenix, Arizona 85003 | December 21, 2004 | 040037
Pima; (FEMA Docket No.: B-7448) | Town of Marana (02-09-1039P) | June 10, 2004; June 17, 2004; Tucson Citizen | The Honorable Bobby Sutton, Jr., Mayor, Town of Marana, 13251 North Lon Adams Road, Marana, Arizona 85653 | September 16, 2004 | 040118
Pima; (FEMA Docket No. B-7448) | Town of Marana (04-09-0308P) | May 6, 2004; May 13, 2004; Daily Territorial | The Honorable Bobby Sutton, Jr., Mayor, Town of Marana, 13251 North Lon Adams Road, Marana, Arizona 85653 | August 12, 2004 | 040118
Pima; (FEMA Docket No.: B-7451) | Town of Marana (03-09-1071P) | December 2, 2004; December 9, 2004; Tucson Citizen | The Honorable Bobby Sutton, Jr., Mayor, Town of Marana, 13251 North Lon Adams Road, Marana, Arizona 85653 | March 10, 2005 | 040118
Pima; (FEMA Docket No.: B-7451) | Town of Marana (04-09-0697P) | December 16, 2004; December 23, 2004; Daily Territorial | The Honorable Bobby Sutton, Jr., Mayor, Town of Marana, 13251 North Lon Adams Road, Marana, Arizona 85653 | March 23, 2005 | 040118
Pima; (FEMA Docket No.: B-7452) | Town of Marana (03-09-1149P) | April 28, 2005; May 5, 2005; Daily Territorial | The Honorable Bobby Sutton, Jr., Mayor, Town of Marana, 13251 North Lon Adams Road, Marana, Arizona 85653 | August 4, 2005 | 040118
Pima; (FEMA Docket No.: B-7450) | City of Tucson (04-09-0621P) | July 29, 2004; August 5, 2004; Daily Territorial | The Honorable Bob Walkup, Mayor, Town of Tucson, 255 West Alameda Street, Tucson, Arizona 85701 | November 4, 2004 | 040076
Pima; (FEMA Docket No.: B-7452) | City of Tucson (04-09-0547P) | April 21, 2005; April 28, 2005; Daily Territorial | The Honorable Bob Walkup, Mayor, City of Tucson, City Hall, 255 West Alameda Street, Tucson, Arizona 85701 | July 28, 2005 | 040076
Pima; (FEMA Docket No.: B-7448) | Unincorporated Areas (02-09-1039P) | June 10, 2004; June 17, 2004; Tucson Citizen | The Honorable Sharon Bronson, Chair, Pima County, Board of Supervisors, 130 West Congress Street, 11th Floor, Tucson, Arizona 85701 | September 16, 2004 | 040073
Pima; (FEMA Docket No.: B-7451) | Unincorporated Areas (03-09-1071P) | December 2, 2004; December 9, 2004; Tucson Citizen | The Honorable Sharon Bronson, Chair, Pima County, Board of Supervisors, 130 West Congress Street, 11th Floor, Tucson, Arizona 85701 | March 10, 2005 | 040073
Pima; (FEMA Docket No.: B-7451) | Unincorporated Areas (03-09-1300P) | November 10, 2004; November 18, 2004; Daily Territorial | The Honorable Sharon Bronson, Chair, Pima County, Board of Supervisors, 130 West Congress Street, 11th Floor, Tucson, Arizona 85701 | October 26, 2004 | 040073
Pinal; (FEMA Docket No.: B-7451) | Unincorporated Areas (03-09-1071P) | December 1, 2004; December 8, 2004; Copper Basin News | The Honorable Lionel D. Ruiz, Chairman, Pinal County Board of Supervisors, P.O. Box 827, Florence, Arizona 85232 | March 10, 2004 | 040077
Pima; (FEMA Docket No.: B-7452) | Unincorporated Areas (03-09-1149P) | April 28, 2005; May 5, 2005; Daily Territorial | The Honorable Sharon Bronson, Chair, Pima County, Board of Supervisors, 130 West Congress Street, 11th Floor, Tucson, Arizona 85701 | August 4, 2005 | 040073
Yavapai; (FEMA Docket No.: B-7450) | Town of Prescott Valley (03-09-1663P) | July 8, 2004; July 15, 2004; Prescott Daily Courier | The Honorable Richard Killingsworth, Mayor, Town of Prescott Valley, Civic Center, 7501 East Civic Circle, Prescott Valley, Arizona 86314 | October 14, 2004 | 040121
Yavapai; (FEMA Docket No.: B-7450) | Unincorporated Areas (04-09-0725P) | July 22, 2004; July 29, 2004; Prescott Daily Courier | The Honorable Lorna Street, Chairman, Yavapai County, Board of Supervisors, 1015 Fair Street, Room 310, Prescott, Arizona 86301 | October 28, 2004 | 040093
Yuma; (FEMA Docket No.: B-7451) | Unincorporated Areas (04-09-0557P) | December 23, 2004; December 30, 2004; Yuma Sun | The Honorable Lucy Shipp, Chairman, Yuma County Board of Supervisors, 198 South Main Street, Yuma, Arizona 85364 | March 30, 2005 | 040099
California:
Alameda; (FEMA Docket No.: B-7452) | City of Hayward (04-09-0592P) | April 23, 2005; April 30, 2005; Daily Review | The Honorable Roberta Cooper, Mayor, City of Hayward, 777 B Street, Hayward, California 94541-5007 | April 11, 2005 | 065033
Butte; (FEMA Docket No.: B-7451) | City of Chico (04-09-0415P) | December 23, 2004; December 30, 2004; Chico Enterprise-Record | The Honorable Maureen Kirk, Mayor, City of Chico, P.O. Box 3420, Chico, California 95927 | March 31, 2005 | 060746
Contra Costa; (FEMA Docket No.: B-7450) | City of Clayton (04-09-0463P) | August 26, 2004; September 2, 2004; Contra Costa Times | The Honorable Peter Laurence, Mayor, City of Clayton, Clayton City Hall, 6000 Heritage Trail, Clayton, California 94517-0280 | December 2, 2004 | 050027
Contra Costa; (FEMA Docket No.: B-7450) | City of Clayton (04-09-0463P) | August 26, 2004; September 2, 2004; Contra Costa Times | The Honorable Peter Laurence, Mayor, City of Clayton, Clayton City Hall, 6000 Heritage Trail, Clayton, California 94517-0280 | December 2, 2004 | 060027
Contra Costa; (FEMA Docket No.: B-7450) | City of Concord (04-09-0463P) | August 26, 2004; September 2, 2004; Contra Costa Times | The Honorable Mark Peterson, Mayor, City of Concord, Concord City Hall, 1950 Parkside Drive, Concord, California 94519 | December 2, 2004 | 065022
Contra Costa; (FEMA Docket No.: B-7452) | City of Hercules (05-09-0327P) | April 14, 2005; April 21, 2005; West County Times | The Honorable Frank Batara, Mayor, City of Hercules, 111 Civic Drive, Hercules, California 94547 | July 21, 2005 | 060434
Kern; ; (FEMA Docket No.: B-7450) | Unincorporated Areas (04-09-0755P) | August 26, 2004; September 2, 2004; Bakersfield Californian | Mr. John McQuiston, Chairman, Kern County, Board of Supervisors 1115 Truxtun Avenue, Fifth Floor, Bakersfield, California 93301 | July 23, 2004 | 060075
Los Angeles; ; (FEMA Docket No.: B-7452) | City of Agoura Hills (04-09-1686P) | March 24, 2005; March 31, 2005; The Acorn | The Honorable Denis Weber, Mayor, City of Agoura Hills, 30001 Ladyface Court, Agoura Hills, California 91301 | June 30, 2005 | 065072
Los Angeles; ; (FEMA Docket No.: B-7448) | City of Burbank (02-09-874P) | June 16, 2004; June 23, 2004; Burbank Leader | The Honorable Stacey Murphy, Mayor, City of Burbank, P.O. Box 6459, Burbank, California 91510-6459 | May 20, 2004 | 065018
Los Angeles; ; (FEMA Docket No.: B-7451) | City of Palmdale (04-09-1388P) | December 2, 2004; December 9, 2004; Los Angeles Times | The Honorable James C. Ledford, Jr., Mayor, City of Palmdale, 38300 North Sierra Highway, Palmdale, California 93550-4798 | March 10, 2005 | 060144
Los Angeles; ; (FEMA Docket No.: B-7451) | Unincorporated Areas (04-09-1388P) | December 2, 2004; December 9, 2004; Los Angeles Times | The Honorable Don Knabe, Chairman, Los Angeles County, Board of Supervisors, 500 West Temple Street, Room 866, Los Angeles, California 90012 | March 10, 2005 | 065043
Riverside; ; (FEMA Docket No.: B-7450) | City of Corona (04-09-0832P) | July 22, 2004; July 29, 2004; Press Enterprise | The Honorable Jeff Miller, Mayor, City of Corona, 815 West Sixth Street, Corona, California 92882 | October 28, 2004 | 060250
Sacramento; ; (FEMA Docket No.: B-7450) | Unincorporated Areas (04-09-0420P) | October 7, 2004; October 14, 2004; Daily Recorder | The Honorable Muriel Johnson, Chair, Sacramento County, Board of Supervisors, 700 H Street, Suite 2450, Sacramento, California 95814 | January 13, 2005 | 060262
San Diego; ; (FEMA Docket No.: B-7452) | City of Chula Vista (04-09-1682P) | March 22, 2005; March 29, 2005; San Diego Union-Tribune | The Honorable Stephen C. Padilla, Mayor, City of Chula Vista, 276 Fourth Avenue, Chula Vista, California 91910 | June 28, 2005 | 065021
San Diego; (FEMA Docket No.: B-7448) | City of Escondido (03-09-1334P) | June 10, 2004; June 17, 2004; North County Times | The Honorable Lori Pfeiler, Mayor, City of Escondido, 201 North Broadway, Escondido, California 92025 | May 21, 2004 | 060290
San Diego; (FEMA Docket No.: B-7450) | City of National City (04-09-1445X) | July 29, 2004; August 5, 2004; San Diego Union-Tribune | The Honorable Nick Inzunza, Mayor, City of National City, National City Civic Center, 1243 National City Boulevard, National City, California 91950 | November 4, 2004 | 060293
San Diego; (FEMA Docket No.: B-7451) | City of Poway; (03-09-1583P) | January 27, 2005; February 3, 2005; Poway News Chieftain | The Honorable Mickey Cafagna, Mayor, City of Poway, P.O. Box 789, Poway, California 92074-0789 | May 5, 2005 | 060702
San Diego; (FEMA Docket No.: B-7448) | City of San Diego (02-09-0909X) | April 29, 2004; May 6, 2004; San Diego Daily Transcript | The Honorable Richard M. Murphy, Mayor, City of San Diego, 202 C Street, 11th Floor, San Diego, California 92101 | August 5, 2004; | 060295
San Diego; (FEMA Docket No.: B-7451) | City of San Diego (04-09-1311P) | November 4, 2004; November 11, 2004; San Diego Daily Transcript | The Honorable Dick Murphy, Mayor, City of San Diego, 202 C Street, 11th Floor, San Diego, California 92101 | February 10, 2005 | 060295
San Diego; (FEMA Docket No.: B-7452) | City of San Diego (04-09-1682P) | March 22, 2005; March 29, 2005; San Diego Union-Tribune | The Honorable Dick Murphy, Mayor, City of San Diego, 202 “C” Street, Eleventh Floor, San Diego, California 92101 | June 28, 2005 | 065295
San Diego; (FEMA Docket No.: B-7450) | City of Vista (03-09-1498P) | August 19, 2004; August 26, 2004; North County Times | The Honorable Morris Vance, Mayor, City of Vista, P.O. Box 1988, Vista, California 92085 | November 26, 2004 | 060297
San Diego; (FEMA Docket No.: B-7448) | Unincorporated Areas (04-09-0909X) | April 29, 2004; May 6, 2004; San Diego Daily Transcript | The Honorable Dianne Jacob, Chairwoman, San Diego County, Board of Supervisors, 1600 Pacific Highway, Room 335, San Diego, California 92101 | August 5, 2004 | 060284
San Diego; (FEMA Docket No.: B-7448) | Unincorporated Areas (03-09-1334P) | June 10, 2004; June 17, 2004; North County Times | The Honorable Greg Cox, Chairwoman, San Diego County, Board of Supervisors, 1600 Pacific Highway, Room 335, San Diego, California 92101 | May 21, 2004 | 060284
Santa Barbara; (FEMA Docket No.: B-7450) | Unincorporated Areas (03-09-1650P) | September 2, 2004; September 9, 2004; Santa Barbara News-Press | The Honorable Joseph Centeno, Chair, Santa Barbara County, Board of Supervisors, 511 East Lakeside Parkway, Suite 141, Santa Maria, California 93455 | December 9, 2004 | 060331
San Diego; (FEMA Docket No.: B-7452) | Unincorporated Areas (04-09-1360P) | March 24, 2005; March 31, 2005; San Diego Union-Tribune | The Honorable Dianne Jacob, Chairperson, San Diego County, Board of Supervisors, County Administration Center, 1600 Pacific Highway, San Diego, California 92101 | March 10, 2005 | 060284
Santa Clara; (FEMA Docket No.: B-7450) | City of San Jose (04-09-0959P) | August 5, 2004; August 12, 2004; San Jose Mercury News | The Honorable Ron Gonzales, Mayor, City of San Jose, 801 North First Street, San Jose, California 95110 | November 12, 2004 | 060349
Solano; (FEMA Docket No.: B-7448) | City of Fairfield (04-09-0394P) | April 29, 2004; May 6, 2004; Daily Republic | The Honorable Karin MacMillan, Mayor, City of Fairfield, 1000 Webster Street, Fairfield, California 94533 | August 5, 2004 | 060370
Ventura; (FEMA Docket No.: B-7450) | City of Simi Valley (04-09-0054P) | October 14, 2004; October 21, 2004; Ventura County Star | The Honorable William Davis, Mayor, City of Simi Valley, 2929 Tapo Canyon Road, Simi Valley, California 93063-2199 | January 20, 2005 | 060421
Colorado:
Adams; (FEMA Docket No.: B-7452) | City of Commerce City (04-08-0577P) | February 2, 2005; February 9, 2005; Brighton Standard-Blade | The Honorable Sean Ford, Mayor, City of Commerce City, 5291 East 60th Avenue, Blade Commerce City, Colorado 80022 | May 11, 2005 | 080006
Adams; (FEMA Docket No.: B-7452) | City of Thornton (04-08-0577P) | February 2, 2005; February 9, 2005; Brighton Standard-Blade | The Honorable Noel Busck, Mayor, City of Thornton, 9500 Civic Center Drive, Thornton, Colorado 80229 | May 11, 2005 | 080007
Adams; (FEMA Docket No.: B-7448) | Unincorporated Areas (02-08-250P) | June 23, 2004; June 30, 2004; Brighton Standard-Blade | The Honorable Elaine T. Valente, Chairperson, Adams County Board of Commissioners, 450 South Fourth Avenue, Brighton, Colorado 80601 | September 29, 2004 | 080001
Adams; (FEMA Docket No.: B-7448) | Unincorporated Areas (03-08-0677P) | April 9, 2004; April 16, 2004; Eastern Colorado News | The Honorable Elaine T. Valente, Chairperson, Adams County Board of Commissioners, 450 South Fourth Avenue, Brighton, Colorado 80601 | July 16, 2004 | 080001
Adams; (FEMA Docket No.: B-7452) | Unincorporated Areas (04-08-0577P) | February 2, 2005; February 9, 2005; Brighton Standard-Blade | The Honorable Elaine T. Valente, Chairperson, Adams County Board of Commissioners, 450 South Fourth Avenue, Brighton, Colorado 80601 | May 11, 2005 | 080001
Adams; (FEMA Docket No.: B-7448) | City of Westminster (02-08-250P) | June 23, 2004; June 30, 2004; Brighton Standard-Blade | The Honorable Ed Moss, Mayor, City of Westminster, 4800 West 92nd Avenue, Westminster, Colorado 80031 | September 29, 2004 | 080008
Adams and Jefferson; (FEMA Docket No.: B-7448) | City of Westminster (03-08-0645P) | May 13, 2004; May 20, 2004; Westminster Window | The Honorable Ed Moss, Mayor, City of Westminster, 4800 West 92nd Avenue, Westminster, Colorado 80031 | August 19, 2004 | 080008
Arapahoe; (FEMA Docket No.: B-7452) | City of Centennial (05-08-0060P) | March 17, 2005; March 24, 2005; The Littleton Independent | The Honorable Randy Pye, Mayor, City of Centennial, City of Centennial Office, 12503 East Euclid Drive, Suite 200, Centennial, Colorado 80111 | March 3, 2005 | 080315
Boulder; (FEMA Docket No.: B-7448) | City of Boulder (04-08-0098P) | June 10, 2004; June 17, 2004; Boulder Daily Camera | The Honorable William R. Toor, Mayor, City of Boulder, P.O. Box 791, Boulder, Colorado 80306 | September 16, 2004 | 080024
Boulder; (FEMA Docket No.: B-7451) | City of Boulder (04-08-0494P) | November 10, 2004; November 17, 2004; Boulder Daily Camera | The Honorable William R. Toor, Mayor, City of Boulder, P.O. Box 791, Boulder, Colorado 80306 | November 1, 2004 | 080024
Boulder and Weld; (FEMA Docket No.: B-7448) | Town of Erie (04-08-0066P) | April 28, 2004; May 5, 2004; Erie Review | The Honorable Barbara Connors, Chairperson, Town of Erie, P.O. Box 750, Erie, Colorado 80516 | August 4, 2004 | 080181
Boulder; (FEMA Docket No.: B-7448) | City of Lafayette (04-08-0259P) | May 27, 2004; June 3, 2004; Boulder Daily Camera | The Honorable Chris Berry, Mayor, City of Lafayette, 1290 South Public Road, Lafayette, Colorado 80026 | September 1, 2004 | 080026
Boulder; (FEMA Docket No.: B-7450) | City of Longmont (03-08-0580P) | July 1, 2004; July 8, 2004; Daily Times Call | The Honorable Julia Pirmack, Mayor, City of Longmont, 350 Kimbark Street, Longmont, Colorado 80501 | October 7, 2004 | 080027
Boulder; (FEMA Docket No.: B-7450) | City of Longmont (04-08-0463P) | September 23, 2004; September 30, 2004; Longmont Daily Times Call | The Honorable Julia Pirmack, Mayor, City of Longmont, 350 Kimbark Street, Longmont, Colorado 80501 | December 16, 2004 | 080027
Boulder; (FEMA Docket No.: B-7448) | Unincorporated Areas (04-08-0259P) | May 27, 2004; June 3, 2004; Boulder Daily Camera | The Honorable Paul Danish, Chairman, Boulder County Board of Commissioners, P.O. Box 471, Boulder, Colorado 80306 | September 1, 2004 | 080023
Boulder; (FEMA Docket No.: B-7450) | Unincorporated Areas (04-08-0580P) | July 1, 2004; July 8, 2004; Daily Times Call | The Honorable Paul Danish, Chairman, Boulder County Board of Commissioners, P.O. Box 471, Boulder, Colorado 80306 | October 7, 2004 | 080023
Boulder; (FEMA Docket No.: B-7451) | Unincorporated Areas (04-08-0494P) | November 10, 2004; November 17, 2004; Boulder Daily Camera | The Honorable Paul Danish, Chairman, Boulder County Board of Commissioners, P.O. Box 471, Boulder, Colorado 80306 | November 1, 2004 | 080023
Broomfield; (FEMA Docket No.: B-7448) | City and County of Broomfield (03-08-0022P) | May 5, 2004; May 12, 2004; Broomfield Enterprise | The Honorable Karen Stuart, Mayor, City and County of Broomfield, One DesCombes Drive, Broomfield, Colorado 80020 | August 25, 2004 | 085073
Broomfield; (FEMA Docket No.: B-7448) | City and County of Broomfield (04-08-0259P) | May 26, 2004; June 2, 2004; Broomfield Enterprise | The Honorable Karen Stuart, Mayor, City and County of Broomfield, One DesCombes Drive, Broomfield, Colorado 80020 | September 1, 2004 | 085073
Broomfield and Jefferson; (FEMA Docket No.: B-7448) | City and County of Broomfield (02-08-447P) | June 9, 2004; June 16, 2004; Broomfield Enterprise | The Honorable Karen Stuart, Mayor, City and County of Broomfield, One DesCombes Drive, Broomfield, Colorado 80020 | September 15, 2004 | 085073
Broomfield and Jefferson; (FEMA Docket No.: B-7448) | City of Westminster (02-08-447P) | June 9, 2004; June 16, 2004; Broomfield Enterprise | The Honorable Ed Moss, Mayor, City of Westminster, 4800 West 92nd Avenue, Westminster, Colorado 80031 | September 15, 2004 | 080008
Denver; (FEMA Docket No.: B-7452) | City and County of Denver (04-08-0657P) | March 23, 2005; March 30, 2005; Rocky Mountain News | The Honorable John W. Hickenlooper, Mayor, City and County of Denver, 1437 Bannock Street, Suite 350, Denver, Colorado 80202 | February 23, 2005 | 080046
Douglas; (FEMA Docket No.: B-7448) | Unincorporated Areas (03-08-0425P) | April 22, 2004; April 29, 2004; Douglas County News Press | The Honorable James R. Sullivan, Chairman, Douglas County Board of Commissioners, 100 Third Street, Castle Rock, Colorado 80104 | July 29, 2004 | 080049
Douglas; (FEMA Docket No.: B-7452) | Unincorporated Areas (04-08-0696P) | March 3, 2005; March 10, 2005; Douglas County News-Press | The Honorable Walter M. Maxwell, Chairman, Douglas County Board of Commissioners, 100 Third Street, Castle Rock, Colorado 80104 | February 17, 2005 | 080049
Douglas; (FEMA Docket No.: B-7452) | Unincorporated Areas (04-08-0022P) | March 31, 2005; April 7, 2005; Douglas County News-Press | The Honorable Walter M. Maxwell, Chairman, Douglas County Board of Commissioners, 100 Third Street, Castle Rock, Colorado 80104 | March 21, 2005 | 080049
El Paso; (FEMA Docket No.: B-7448) | City of Colorado Springs (03-08-0229P) | May 27, 2004; June 3, 2004; The Gazette | The Honorable Lionel Rivera, Mayor, City of Colorado Springs, P.O. Box 1575, Colorado Springs, Colorado 80901 | September 2, 2004 | 080060
El Paso; (FEMA Docket No.: B-7450) | City of Colorado Springs (04-08-0314P) | September 23, 2004; September 30, 2004; The Gazette | The Honorable Lionel Rivera, Mayor, City of Colorado Springs, P.O. Box 1575, Colorado Springs, Colorado 80901 | December 30, 2004 | 080060
El Paso; (FEMA Docket No.: B-7450) | City of Colorado (03-08-0689P) | July 1, 2004; July 8, 2004; The Gazette | The Honorable Lionel Rivera, Mayor, City of Colorado Springs, P.O. Box 1575, Colorado Springs, Colorado 80901 | October 7, 2004 | 080060
El Paso; (FEMA Docket No.: B-7450) | City of Colorado Springs (04-08-0434P) | August 26, 2004; September 2, 2004; The Gazette | The Honorable Lionel Rivera, Mayor, City of Colorado Springs, P.O. Box 1575, Colorado Springs, Colorado 80901 | December 2, 2004 | 080060
El Paso; (FEMA Docket No.: B-7448) | Town of Green Mountain (04-08-0136P) | April 8, 2004; April 15, 2004; The Gazette Falls | The Honorable Richard Bratton, Mayor, Town of Green Mountain, P.O. Box 524, Green Mountain Falls, CO 80819 | July 15, 2004 | 080062
El Paso; (FEMA Docket No.: B-7448) | City of Manitou Springs (04-08-0013P) | June 10, 2004; Pikes Peak Bulletin | The Honorable Marcy Morrison, Mayor, City of Manitou Springs, 606 Manitou Avenue, Manitou Springs, Colorado 80829 | May 12, 2004 | 080063
El Paso; (FEMA Docket No.: B-7448) | Unincorporated Areas (03-08-0318P) | April 28, 2004; May 5, 2004; El Paso County News | The Honorable Chuck Brown, Chair, El Paso County, Board of Commissioners, 27 East Vermijo Avenue, Colorado Springs, Colorado 80903-2208 | April 9, 2004 | 080059
El Paso; (FEMA Docket No.: B-7450) | Unincorporated Areas (03-08-0689P) | July 1, 2004; July 8, 2004; The Gazette | The Honorable Chuck Brown, Chair, El Paso County, Board of Commissioners, 27 East Vermijo Avenue, Colorado Springs, Colorado 80903-2208 | October 7, 2004 | 080059
El Paso; (FEMA Docket No.: B-7450) | Unincorporated Areas (03-08-0062P) | August 11, 2004; August 18, 2004; El Paso County News | The Honorable Chuck Brown, Chair, El Paso County, Board of Commissioners, 27 East Vermijo Avenue, Colorado Springs, Colorado 80903-2208 | November 18, 2004 | 080059
El Paso; (FEMA Docket No.: B-7450) | Unincorporated Areas (04-08-0114P) | September 22, 2004; September 29, 2004; El Paso County News | The Honorable Chuck Brown, Chair, El Paso County, Board of Commissioners, 27 East Vermijo Avenue, Colorado Springs, Colorado 80903-2208 | December 29, 2004 | 080059
El Paso; (FEMA Docket No.: B-7451) | Unincorporated Areas (04-08-0587P) | November 10, 2004; November 17, 2004; El Paso County News | The Honorable Chuck Brown, Chair, El Paso County, Board of Commissioners, 27 East Vermijo Avenue, Colorado Springs, Colorado 80903-2208 | February 16, 2005 | 080059
El Paso; (FEMA Docket No.: B-7451) | Unincorporated Areas (04-08-0427P) | January 19, 2005; January 26, 2005; El Paso County News | The Honorable Chuck Brown, Chair, El Paso County, Board of Commissioners, 27 East Vermijo Avenue, Colorado Springs, Colorado 80903-2208 | April 27, 2005 | 080059
El Paso; (FEMA Docket No.: B-7452) | Unincorporated Areas (04-08-0519P) | February 2, 2005; February 9, 2005; El Paso County News | The Honorable Chuck Brown, Chairman, El Paso County, Board of Commissioners, 27 East Vermijo Avenue, Colorado Springs, Colorado 80903-2208 | May 11, 2005 | 080059
El Paso; (FEMA Docket No.: B-7452) | Unincorporated Areas (04-08-0709P) | February 9, 2005; February 16, 2005; El Paso County News | The Honorable Chuck Brown, Chairman, El Paso County, Board of Commissioners, 27 East Vermijo Avenue, Colorado Springs, Colorado 80903-2208 | May 18, 2005 | 080059
Eagle; (FEMA Docket No.: B-7448) | Town of Eagle (04-08-0145P) | May 27, 2004; June 3, 2004; Eagle Valley Enterprise | The Honorable Roxie Deane, Mayor, Town of Eagle, 200 Broadway, Eagle Colorado 81631 | September 2, 2004 | 080238
Eagle; (FEMA Docket No.: B-7448) | Unincorporated Areas (04-08-0145P) | May 27, 2004; June 3, 2004; Eagle Valley Enterprise | The Honorable Michael Gallagher, Chairman, Eagle County, Board of Commissioners, P.O. Box 850 Eagle, Colorado 81631 | September 2, 2004 | 080051
Gilpin; (FEMA Docket No.: B-7452) | City of Black Hawk (04-08-0333P) | March 18, 2005; March 25, 2005; Weekly Register Call | The Honorable Kathryn Eccker, Mayor, City of Black Hawk, P.O. Box 17, Black Hawk, Colorado 80422 | June 24, 2005 | 080076
Jefferson; (FEMA Docket No.: B-7452) | City of Lakewood (05-08-0126P) | March 24, 2005; March 31, 2005; The Lakewood Sentinel | The Honorable Steve Burkholder, Mayor, City of Lakewood, Lakewood Civic Center, South 480 South Allison Parkway , Lakewood, Colorado 80226 | February 22, 2005 | 085075
Summit; (FEMA Docket No.: B-7450) | Town of Breckenridge (04-08-0049P) | July 9, 2004; July 16, 2004; Summit County Journal | The Honorable Ernie Blake, Mayor, Town of Breckenridge, 150 Ski Hill Road, Breckenridge, Colorado 80424 | October 15, 2004 | 080172
Summit; (FEMA Docket No.: B-7450) | Unincorporated Areas (02-08-0102P) | July 16, 2004; July 23, 2004 Summit County Journal | The Honorable Bill Wallace, Chairman, Summit County, Board of Commissioners, County Courthouse, P.O. Box 68, Breckenridge, Colorado 80424 | October 22, 2004 | 080290
Weld; (FEMA Docket No.: B-7450) | Town of Firestone (04-08-0410P) | October 6, 2004; October 13, 2004; Farmer and Miner | The Honorable Michael Simone, Mayor, Town of Firestone, 151 Grant Avenue, Firestone, Colorado 80520 | January 12, 2005 | 080241
Weld; (FEMA Docket No.: B-7450) | Town of Frederick (04-08-0410P) | October 6, 2004; October 13, 2004; Farmer and Miner | The Honorable Eric Doering, Mayor, Town of Frederick, 401 Locust Street, Frederick, Colorado 80530 | January 12, 2005 | 080244
Weld; (FEMA Docket No.: B-7450) | Unincorporated Areas (04-08-0410P) | October 6, 2004; October 13, 2004; Farmer and Miner | The Honorable Robert D. Masden, Chair, Weld County, Board of Commissioners, P.O. Box 758, Greeley, Colorado 80632 | January 12, 2005 | 080266
Weld; (FEMA Docket No.: B-7451) | Town of Windsor (04-08-0430P) | November 26, 2004; December 3, 2004; Windsor Daily Tribune | The Honorable Edward Starck, Mayor, Town of Windsor, 301 Walnut Street, Windsor, Colorado 80550 | March 4, 2005 | 080264
Connecticut:
Fairfield; (FEMA Docket No.: G-7452) | Town of Greenwich (05-01-0130P) | March 3, 2005; March 10, 2005; Greenwich Times | The Honorable Jim Lash, First Selectman, Town of Greenwich, Town Hall, 101 Field Point Road, Greenwich, Connecticut 06830 | February 7, 2005 | 090008
New London; (FEMA Docket No.: B-7452) | City of New London (05-01-0174P) | May 12, 2005; May 19, 2005; The Day | Mr. Richard M. Brown, City Manager, City of New London, 181 State Street, New London, Connecticut 06320 | April 19, 2005 | 090100
Florida:
Broward; (FEMA Docket No.: B-7452) | City of Hallandale Beach (05-004-0018P) | March 24, 2005; March 31, 2005; Sun Sentinel | The Honorable Joy Cooper, Mayor, City of Hallandale Beach, 400 South Federal Highway, Hallandale Beach, Florida 33009 | March 9, 2005 | 125110
Sarasota; (FEMA Docket No.; B-7450) | City of Sarasota (04-04-A194P) | July 15, 2004; July 22, 2004; Sarasota Herald-Tribune | Mr. Michael A. McNees, City Manager, City of Sarasota, 1565 First Street, Sarasota, Florida 34236 | June 24, 2004 | 125150
Idaho:
Ada; (FEMA Docket No.: B-7450) | Unincorporated Areas (04-10-0213P) | August 19, 2004; August 26, 2004; Idaho Statesman | The Honorable Judy Peavey-Derr, Chairman, Ada County, Board of Commissioners, County Courthouse, 200 West Front Street, Boise, Idaho 83702 | November 26, 2004 | 160001
Ada; (FEMA Docket No.: B-7450) | Unincorporated Areas (04-10-0379P) | September 2, 2004; September 9, 2004; Idaho Statesman | The Honorable Judy Peavey-Derr, Chairman, Ada County Board of Commissioners, County Courthouse, 200 West Front Street, Boise, Idaho 83702 | December 9, 2004 | 160001
Ada; (FEMA Docket No.: B-7452) | Unincorporated Areas (04-10-0520P) | March 24, 2005; March 31, 2005; The Idaho Statesman | The Honorable Judy Peavey-Derr, Chairman, Ada County, Board of Commissioners, 200 West Front Street, Boise, Idaho 83702 | June 30, 2005 | 160001
Illinois:
Cook; (FEMA Docket No.: B-7452) | City of Hickory Hills (05-005-0128P) | April 21, 2005; April 28, 2005; Daily Southtown | The Honorable Michael Howley, Mayor, City of Hickory Hills, 8652 West 95th Street, Hickory Hills, Illinois 60457 | March 28, 2005 | 170103
Cook; (FEMA Docket No.: B-7452) | Village of Justice (05-05-0128O) | April 21, 2005; April 28, 2005; Daily Southtown | The Honorable Melvin D. Van Allen, Village President, Village of Justice, 7800 South Archer Road, Justice, Illinois 60458 | March 28, 2005 | 170112
Madison; (FEMA Docket No.: B-7452) | City of Highland (05-05-0534P) | March 24, 2005; March 31, 2005; The Highland News Leader | The Honorable Bob Bowman, Mayor, City of Highland, P.O. Box 218, Highland, Illinois 62249 | April 4, 2005 | 170445
Indiana: Hamilton; (FEMA Docket No.: B-7452) | Town of Westfield (05-05-0417P) | March 22, 2005; March 29, 2005; The Noblesville Ledger | The Honorable Teresa Otis Skelton, Town Council President, Town of Westfield, 130 Penn Street, Westfield, Indiana 46074 | March 10, 2005 | 180083
Iowa:
Johnson; (FEMA Docket No.: B-7452) | City of Coralville (05-07-0424P) | May 12, 2005; May 19, 2005; Iowa City Press-Citizen | The Honorable Jim Fausett, Mayor, City of Carolville, 1512 Seventh Street, Coralville, Iowa 52241 | April 25, 2005 | 190169
Linn; (FEMA Docket No.: B-7451) | City of Cedar Rapids (04-07-A097P) | October 14, 2004; October 21, 2004; Cedar Rapids Gazette | The Honorable Paul D. Pate, Mayor, City of Cedar Rapids, City Hall, Third Floor, 50 Second Avenue Bridge, Cedar Rapids, Iowa 52401 | September 21, 2004 | 190187
Linn; (FEMA Docket No.: B-7451) | City of Marion (04-07-A097P) | October 14, 2004; October 21, 2004; Cedar Rapids Gazette | The Honorable John Nieland, Mayor, City of Marion, 1100 Eighth Avenue, Marion, Iowa 52302 | September 21, 2004 | 190191
Kentucky: Warran; (FEMA Docket No.: B-7452) | City of Bowling Green (04-04-A310P) | March 23, 2005; March 30, 2005; Park City Daily News | The Honorable Sandy Jones, Mayor, City of Bowling Green, 1001 College Street, Bowling Green, Kentucky 42102-0430 | March 9, 2005 | 210219
Michigan:
Macomb; (FEMA Docket No.: B-7452) | Township of Macomb (05-05-0281P) | February 18, 2005; February 25, 2005; Macomb County Legal News | The Honorable John D. Brennan, Township Supervisor, Macomb Township, 54111 Broughton Road, Macomb, Michigan 48042 | January 12, 2005 | 260445
Macomb; (FEMA Docket No.: B-7452) | Township of Washington (04-005-A257P) | January 26, 2005; February 2, 2005; The Romeo Observer | The Honorable Gary Kirsh, Supervisor, Washington Township, P.O. Box 940067, Washington, Michigan 48094 | January 18, 2005 | 260447
Monroe; (FEMA Docket No.: B-7452) | Town of Bedford (05-05-0658P) | May 5, 2005; May 12, 2005; The Monroe Evening News | The Honorable Walt Wilburn, Township Supervisor, Township of Bedford, 8100 Jackman Road, Box H, Temperance, Michigan 48182 | April 20, 2005 | 260142
Missouri: Platte; (FEMA Docket No.: B-7452) | City of Riverside (04-07-A209P) | March 24, 2005; March 31, 2005; The Landmark | The Honorable Betty Burch, Mayor, City of Riverside, 2950 Northwest Vivion Road, Riverside, Missouri 64150 | March 2, 2005 | 290296
Montana:
Lincoln; (FEMA Docket No.: B-7462) | City of Libby (04-08-0419P) | March 23, 2005; March 30, 2005; The Western News | The Honorable Anthony Berget, Mayor, City of Libby, P.O. Box 1428, Libby, Montana 59923 | March 1, 2005 | 300042
Lincoln; (FEMA Docket No.: B-7452) | Unincorporated Areas (04-08-419P) | March 23, 2005; March 30, 2005; The Western News | The Honorable Marianne Roose, Chair, Lincoln County, Board of Commissioners, 512 California Avenue, Libby, Montana 59923 | March 1, 2005 | 300157
Missoula; (FEMA Docket No.: B-7450) | City of Missoula (04-08-0371P) | August 26, 2004; September 2, 2004; The Missoulian | The Honorable Mike Kadas, Mayor, City of Missoula, 435 Ryman Street, Missoula, Montana 59802 | July 23, 2004 | 300049
Missoula; (FEMA Docket No.: B-7450) | Unincorporated Areas (04-08-0371P) | August 26, 2004; September 2, 2004; The Missoulian | The Honorable Barbara Evans, Chairman, Missoula County, Board of Commissioners, 200 West Broadway, Missoula, Montana 59802 | July 23, 2004 | 300048
Nebraska:
Hall; (FEMA Docket No.: B-7451) | City of Grand Island (04-07-A319P) | November 4, 2004; November 11, 2004; Grand Island Independent | The Honorable Jay Vavricek, Mayor, City of Grand Island, P.O. Box 1968, Grand Island, Nebraska 68802 | October 19, 2004 | 310103
Hall; (FEMA Docket No.: B-7451) | Unincorporated Areas (04-07-A319P) | November 4, 2004; November 11, 2004; Grand Island Independent | The Honorable Pamela E. Lancaster, Chair, Hall County, Board of Supervisors, 2809 Apache Road, Grand Island, Nebraska 68801 | October 19, 2004 | 310100
Sarpy; (FEMA Docket No.: B-7452) | Unincorporated Areas (04-07-A507P) | March 23, 2005; March 30, 2005; Bellevue Leader | The Honorable Inez Boyd, Chair, Sarpy County, Board of Commissioners, 1210 Golden Gate Drive, Suite 1116, Papillion, Nebraska 68046-2894 | February 14, 2005 | 310190
Saunders; (FEMA Docket No.: B-7452) | Unincorporated Areas (04-07-A507P) | March 24, 2005; March 31, 2005; Wahoo News | The Honorable Kenneth Kunci, Chairman, Saunders County Board of Supervisors, 109 North Railway, Prague, Nebraska 68050 | February 14, 2005 | 310195
Nevada:
Elko; (FEMA Docket No.: B-7450) | City of Elko (02-09-1203P) | July 22, 2004; July 29, 2004; Elko Daily Free Press | The Honorable Michael J. Franzoia, Mayor, City of Elko, 1751 College Avenue, Elko, Nevada 89801 | October 28, 2004 | 320010
Independent City; (FEMA Docket No.: B-7452) | City of Carson City (04-09-1128P) | April 7, 2005; April 14, 2005; Nevada Appeal | The Honorable Marv Teixeira, Mayor, City of Carson City, 201 North Carson Street, Suite 1, Carson City, Nevada 89701 | July 14, 2005 | 320001
Nye; (FEMA Docket No.: B-7451) | Unincorporated Areas (04-09-0133P) | November 4, 2004; November 11, 2004; Tonopah Times Bonanza and Goldfield News | The Honorable Henry Neth, Chairman, Nye County, Board of Commissioners, P.O. Box 153, Tonopah, Nevada 89049 | November 8, 2004 | 320018
Washoe; (FEMA Docket No.: B-7452) | City of Reno (04-09-1534P) | April 14, 2005; April 21, 2005; Reno Gazette-Journal | The Honorable Robert Cashell, Mayor, City of Reno, P.O. Box 1900, Reno, Nevada 89505 | July 21, 2005 | 320020
North Carolina:
Dare; (FEMA Docket No.: B-7452) | Unincorporated Areas (04-04-A520P) | October 21, 2004; October 28, 2004; Coastland Times | The Honorable Warren Judge, Chairman, Dare County, Board of Commissioners, P.O. Box 1000, Manteo, North Carolina 27954 | October 14, 2004 | 375348
Dare; (FEMA Docket No.: B-7452) | Unincorporated Areas (05-04-0985P) | March 31, 2005; April 7, 2005; Coastland Times | The Honorable Warren Judge, Chairman, Dare County, Board of Commissioners, P.O. Box 1000, Manteo, North Carolina 27924 | March 15, 2005 | 375348
Durham; (FEMA Docket No.: B-7452) | Unincorporated Areas (04-04-A165P) | April 7, 2005; April 14, 2005; The Herald Sun | Mr. Michael M. Ruffin, Durham County, Manager, 200 East Main Street, Second Floor, Durham, North Carolina 27701 | July 14, 2005 | 370085
Mecklenburg; (FEMA Docket No.: B-7452) | City of Charlotte (04-04-B034P) | April 14, 2005; April 21, 2005; Charlotte Observer | The Honorable Patrick McCrory, Mayor, City of Charlotte, 600 East Fourth Street, Charlotte, North Carolina 28202 | July 21, 2005 | 370159
Mecklenburg; (FEMA Docket No.: B-7452) | Unincorporated Areas, (04-04-B034P) | April 14, 2005; April 21, 2005; Charlotte Observer | Mr. Harry L. Jones, Sr., County Manager, Mecklenburg County, Charlotte-Mecklenburg, Government Center, 600 East Fourth Street, 11th Floor, Charlotte, North Carolina 28202 | July 21, 2005 | 370158
Rowan; (FEMA Docket No.: B-7448) | City of Salisbury (03-04-575P) | April 15, 2004; April 22, 2004; Salisbury Post | The Honorable Susan W. Kluttz, Mayor, City of Salisbury, 217 South Main Street, Salisbury, North Carolina 28144 | July 22, 2004 | 370215
Ohio: Fairfield; (FEMA Docket No.: B-7451) | Unincorporated Areas (04-05-A672P) | December 9, 2004; December 16, 2004; Lancaster Eagle-County Gazette | The Honorable Judith K. Shupe, Fairfield County Commissioner, County Courthouse, 210 East Main Street, Lancaster, Ohio 43130 | March 17, 2005 | 390158
Oklahoma: Oklahoma; (FEMA Docket No.: B-7452) | City of Oklahoma City (05-06-0201P) | March 23, 2005; March 30, 2005; The Journal Record | The Honorable Mick Cornett, Mayor, City of Oklahoma City, 200 North Walker Avenue, Third Floor, Oklahoma City, Oklahoma 73102 | June 29, 2005 | 405378
Oregon: Clackamas; (FEMA Docket No.: B-7452) | Unincorporated Areas (05-10-0129P) | May 5, 2005; May 12, 2005; The Oregonian | The Honorable Martha Schrader, Chairperson, Clackamas County, Board of Commissioners, 2051 Kaen Road, Oregon City, Oregon 97045 | August 11, 2005 | 415588
Tennessee: Shelby; (FEMA Docket No.: B-7452) | City of Memphis (04-04-A797P) | December 30, 2004; January 6, 2005; The Commercial Appeal | The Honorable Dr. Willie W. Herenton, Mayor, City of Memphis, City Hall, 125 North Main Street, Room 700, Memphis, Tennessee 38103 | December 15, 2004 | 470177
Texas:
Collin; (FEMA Docket No.: B-7452) | City of Plano (04-06-A213P) | March 10, 2005; March 17, 2005; Plano Star Courier | The Honorable Pat Evans, Mayor, City of Plano, P.O. Box 860358, Plano, Texas 75086-0358 | February 25, 2005 | 480140
Dallas; (FEMA Docket No.: B-7452) | City of Garland (04-06-A335P) | April 29, 2005; May 5, 2005; Dallas Morning News | The Honorable Bob Day, Mayor, City of Garland, 200 North Fifth Street, Garland, Texas 75040 | July 28, 2005 | 485471
Dallas; (FEMA Docket No.: B-7451) | City of Richardson (04-06-A201P) | December 23, 2004; December 30, 2004; Dallas Morning News | The Honorable Gary Slagel, Mayor, City of Richardson, 411 West Arapaho Road, Richardson, Texas 75083 | March 30, 2005 | 480184
Dallas; (FEMA Docket No.: B-7452) | Town of Sunnyvale (05-06-0552P) | April 14, 2005; April 21, 2005; The Mesquite News | The Honorable Jim Phaup, Mayor, Town of Sunnyvale, 537 Long Creek Road, Sunnyvale, Texas 75182 | July 21, 2005 | 480188
Denton; (FEMA Docket No.: B-7452) | City of Denton (04-06-A081P) | April 13, 2005; April 20, 2005; Denton Record Chronicle | The Honorable Euline Brock, Mayor, City of Denton, 215 East McKinney Street, Denton, Texas 76201 | July 20, 2005 | 480194
Denton; (FEMA Docket No.: B-7452) | Unincorporated Areas (04-06-A302P) | April 14, 2005; April 21, 2005; Denton Record Chronicle | The Honorable Mary Horn, Denton County Judge, Courthouse on the Square, 110 West Hickory Street, Second Floor, Denton, Texas 76201-4168 | July 21, 2005 | 480774
Midland; (FEMA Docket No.: B-7451) | City of Midland (04-06-A290P) | January 20, 2005; January 27, 2005; Midland Reporter Telegram | The Honorable Michael J. Canon Mayor, City of Midland, 300 North Loraine, Midland, Texas 79702 | January 4, 2005 | 480477
Tarrant; (FEMA Docket No.: B-7452) | City of Arlington (04-06-A299P) | April 14, 2005; April 21, 2005; Arlington Star-Telegram | The Honorable Robert Cluck, M.D., Mayor, City of Arlington, P.O. Box 90231, Arlington, Texas 76004-3231 | July 21, 2005 | 485454
Tarrant; (FEMA Docket No.: B-7452) | City of Hurst (05-06-0126P) | March 10, 2005; March 17, 2005; Fort Worth Star-Telegram | The Honorable Richard Ward, Mayor, City of Hurst, 1505 Precinct Line Road, Hurst, Texas 76054 | February 16, 2005 | 480601
Travis; (FEMA Docket No.: B-7452) | City of Austin (04-06-A121P) | March 16, 2005; March 23, 2005; Austin American-Statesman | The Honorable Kirk P. Watson, Mayor, City of Austin, P.O. Box 1088, Austin, Texas 78767-2250 | June 22, 2005 | 480624
Utah:
Salt Lake; (FEMA Docket No.: B-7452) | City of Salt Lake City (04-08-0707P) | March 24, 2005; March 31, 2005; Desert News | The Honorable Rocky Anderson, Mayor, City of Salt Lake City, 451 South State Street, Room 306, Salt Lake City, Utah 84111 | February 10, 2005; | 490105
Salt Lake; (FEMA Docket No.: B-7450) | City of South Jordan (04-08-0379P) | September 2, 2004; September 9, 2004; Salt Lake Tribune | The Honorable W. Kent, Money, Mayor, City of South Jordan, 1600 West Towne Center Drive, South Jordan, Utah 84095 | December 9, 2004 | 490107
Salt Lake; (FEMA Docket No.: B-7448) | City of West Jordan (04-08-0014P) | April 22, 2004; April 29, 2004; Salt Lake Tribune | The Honorable Bryan Holladay, Mayor, City of West Jordan, 8000 Redwood Road, West Jordan, Utah 84088 | March 25, 2004 | 490108
Virginia:
Fauquier; (FEMA Docket No.: B-7452) | Unincorporated Areas (05-03-0157P) | April 14, 2005; April 21, 2005; The Fauquier Citizen Fauquier | Mr. Paul McCulla, County Administrator, County 10 Hotel Street, Warrenton, Virginia 20186 | July 21, 2005 | 510055
Wisconsin:
Dodge; (FEMA Docket No.: B-7451) | Unincorporated Areas (04-05-A339P) | December 2, 2004; December 9, 2004; Dodge County Independent News | The Honorable Russell Kottke, Chairman, Dodge County, Board of Supervisors, W8542 Laurel Hill Road, Fox Lake, Wisconsin 53933 | March 10, 2005 | 550094
Fond du Lac; (FEMA Docket No.: B-7452) | Unincorporated Areas (04-05-A486P) | March 24, 2005; March 31, 2005; Fond du Lac Reporter | The Honorable Brenna Garrison-Bruden, County Board Chair, Fond du Lac County, 160 South Macy Street, Fond du Lac, Wisconsin 54935 | April 8, 2005 | 550131
Washington; (FEMA Docket No.: B-7452) | Unincorporated Areas (05-05-1018P) | May 12, 2005; May 19, 2005; West Bend Daily News | The Honorable Kenneth F. Miller, Chairperson, Washington County, Board of Supervisors, 432 East Washington Street, West Bend, Wisconsin 53095 | August 18, 2005 | 550471
Washington: King; (FEMA Docket No.: B-7451) | City of Issaquah (03-10-0465P) | November 17, 2004; November 24, 2004; Issaquah Press | The Honorable Ava Frisinger, Mayor, City of Issaquah, P.O. Box 1307, Issaquah, Washington 98027 | February 23, 2005 | 530079
Wyoming: Teton; (FEMA Docket No.: B-7452) | Unincorporated Areas (04-08-0488P) | March 2, 2005; March 9, 2005; Jackson Hole News | The Honorable Larry Jorgenson, Chair, Teton County, Board of Commissioners, P.O. Box 3594, Jackson, Wyoming 83001 | June 1, 2005 | 560094

(Catalog of Federal Domestic Assistance No. 83.100, “Flood Insurance.”)

Dated: December 22, 2005.
David I. Maurstad,
Acting Director, Mitigation Division, Federal Emergency Management Agency, Department of Homeland Security.

[FR Doc. 06-1826 Filed 2-27-06; 8:45 am]

BILLING CODE 9110-12-P